DEPARTMENT OF THE INTERIOR

Bureau of Safety and Environmental Enforcement

[BOEM-2021-0043; EEEE500000 234E1700D2 ET1SF0000.EAQ000

Oil and Gas Decommissioning Activities on the Pacific Outer Continental Shelf

AGENCY: Bureau of Safety and Environmental Enforcement (BSEE).

ACTION: Notice of availability of the Record of Decision for the Final Programmatic Environmental Impact Statement for Oil and Gas Decommissioning Activities on the Pacific Outer Continental Shelf.

SUMMARY: The Bureau of Safety and Environmental Enforcement (BSEE) announces the availability of the Record of Decision for the Final Programmatic Environmental Impact Statement (PEIS) for Oil and Gas Decommissioning Activities on the Pacific Outer Continental Shelf. The Record of Decision identifies BSEE's selected alternative for the Final PEIS.

ADDRESSES: The Record of Decision and the Final PEIS with appendices are available on the Bureau of Ocean Energy Management's (BOEM's) website at www.boem.gov/Pacific-Decomm-PEIS and on BSEE's website at www.bsee.gov/stats-facts/ocs-regions/pacific/pacific-region-federal-ocs-decommissioning.

FOR FURTHER INFORMATION CONTACT: For further information on the Record of Decision for the Final PEIS, you may contact BOEM or BSEE. The BOEM point of contact (POC) is Mr. Richard Yarde, Regional Supervisor, Bureau of Ocean Energy Management, Pacific OCS Region, 760 Paseo Camarillo, Suite 102, Camarillo, CA 93010-6002. You may also contact Mr. Yarde by telephone at (805) 384-6379 or email at richard.yarde@boem.gov. The BSEE POC is Mr. Bruce Hesson, Regional Director, Bureau of Safety and Environmental Enforcement, Pacific Region, 760 Paseo Camarillo, Suite 102, Camarillo, CA 93010. You may also contact Mr. Hesson by telephone at (805) 384-6373 or email at bruce.hesson@bsee.gov.

SUPPLEMENTARY INFORMATION:

Preferred Alternative Selected: The Record of Decision identifies the Preferred Alternative, Alternative 1 with sub-alternative 1a (Alternative 1a), as the selected alternative, which is for complete removal with onshore disposal and the option of explosive severance for platform jackets.

Other Alternatives Analyzed: The Final PEIS also considered alternatives addressing partial removal of infrastructure, different severance techniques, and the potential for placement of portions of the jacket for development of an artificial reef. This Final PEIS will provide foundational analysis of the primary methods of decommissioning across a range of scenarios to facilitate evaluation of future decommissioning applications, which will undergo further analysis on a site-specific basis.

Availability of the ROD: You may download or view the Record of Decision, Final PEIS, appendices, and associated information on the following BOEM website: www.boem.gov/Pacific-Decomm-PEIS, or on the following BSEE website: https://www.bsee.gov/stats-facts/ocs-regions/pacific/pacific-region-federal-ocs-decommissioning.

Authority: 42 U.S.C. 4231 et seq.; 40 CFR 1506.6.

Kevin M. Sligh, Sr.,
Director, Bureau of Safety and Environmental Enforcement.

[FR Doc. 2023-27352 Filed 12-12-23; 8:45 am]

BILLING CODE P